DEPARTMENT OF THE INTERIOR

National Park Service

[NPS-WASO-NRNHL-DTS#-33629; PPWOCRADI0, PCU00RP14.R50000]

National Register of Historic Places; Notification of Pending Nominations and Related Actions

AGENCY: National Park Service, Interior.

ACTION: Notice.

SUMMARY: The National Park Service is soliciting electronic comments on the significance of properties nominated before March 19, 2022, for listing or related actions in the National Register of Historic Places.

DATES: Comments should be submitted electronically by April 15, 2022.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before March 19, 2022. Pursuant to 36 CFR 60.13, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

MASSACHUSETTS

Hampden County,

War Memorial Building, 310 Appleton St., Holyoke, SG100007663

Hampshire County

Clarke School for the Deaf Historic District, 40-42, 44, 45, 46, 47, 48, 50 and 54 Round Hill Rd., Northampton, SG100007664

Worcester County

Indian Hill School, 155 Ararat St., Worcester, SG100007665

TEXAS

Travis County

Huston-Tillotson College (East Austin MRA), 900 Chicon St., Austin, MP100007662

WISCONSIN

Lafayette County

Darlington Carnegie Free Library (Public Library Facilities of Wisconsin MPS), 525 Main St., Darlington, MP100007661

(Authority: 36 CFR 60.13)

Dated: March 22, 2022.
Lisa Davidson,
Acting Chief, National Register of Historic Places/National Historic Landmarks Program.

[FR Doc. 2022-06820 Filed 3-30-22; 8:45 am]

BILLING CODE 4312-52-P